SOCIAL SECURITY ADMINISTRATION

[Docket No. SSA-2008-0002]

Retirement Estimator

AGENCY: Social Security Administration (SSA).

ACTION: Notice.

SUMMARY: The Commissioner of Social Security gives notice that SSA intends to add a new calculator to its online Benefit Calculators suite. The Retirement Estimator will allow authenticated individuals to calculate estimates of potential retirement benefits in real-time, based in part on their SSA-maintained records and in part on user-entered information, such as the last year of Social Security earnings. In addition to quick estimates of retirement benefits at specific points such as full retirement age, users may also submit a number of “what if” scenarios based on information they provide regarding future earnings and retirement dates. The estimates can be printed and saved. The initial release of the Retirement Estimator will not reflect offset due to the Windfall Elimination Provision (WEP), or Government Pension Offset (GPO).

SSA currently has four benefit calculators on its Web site-the Quick, Online, WEP and Detailed calculators (http://www.ssa.gov/planners/calculators.htm). The Quick Calculator provides a simple, rough estimate based on user-entered date of birth and current year earnings. For more precise estimates, the Online, WEP and Detailed calculators require that the user have access to his or her Social Security Statement in order to manually key each year of their lifetime earnings for use in the benefit computation. American Customer Satisfaction Index Surveys consistently indicate that less than 25% of users have their Statement available when using the calculators; therefore, 75% of users cannot immediately use the Online, WEP and Detailed calculators. The Detailed Calculator also requires downloading and installing software.

In accordance with OMB Circular A-130 and OMB Memo M-04-04, E-Authentication Guidelines for Federal Agencies, SSA conducted an authentication risk assessment. Based on the analysis of the Impact Categories and corresponding Assurance Level Impact Profiles, the Retirement Estimator was assessed at a medium level of risk (Level 2). There will be no disclosure of Personal Identifying Information that could lead to identity theft, no disclosure of address information that could facilitate physical harm, and no disclosure of earnings information from SSA records. Further, the source data cannot be reverse-engineered from the estimate. Based on the risk assessment, a knowledge-based authentication protocol will be used to match user-entered information with SSA records in order to control access to the application. SSA consulted with privacy experts and added additional data matches in the authentication protocol and a “block access” feature that allows clients to prevent online access to their account.

The Retirement Estimator calculator will provide a safe, user-friendly and convenient tool that will: (1) Contribute to financial literacy by helping members of the public plan for retirement; (2) help to promote SSA's online benefit application; and, (3) save Agency resources.

DATES: The Retirement Estimator will be released to the public on July 19, 2008.

FOR FURTHER INFORMATION CONTACT: Gerard R. Hart, Operations, Office of Electronic Services, Social Security Administration, 6401 Security Boulevard, Baltimore, MD 21235-6401, Phone 410-965-8707, e-mail Gerard.R.Hart@ssa.gov. For information on eligibility or applying for benefits, call 1-800-772-1213, or visit our Internet site, Social Security Online at http://www.socialsecurity.gov.

Dated: May 7, 2008.
Michael J. Astrue,
Commissioner of Social Security.

[FR Doc. E8-10544 Filed 5-12-08; 8:45 am]

BILLING CODE 4191-02-P